DEPARTMENT OF COMMERCE

National Oceanic and Atmospheric Administration

50 CFR Part 300

[Docket No. 200121-0025]

RIN 0648-BH48

International Fisheries; Pacific Tuna Fisheries; Procedures for the Active and Inactive Vessel Register; Correction

AGENCY: National Marine Fisheries Service (NMFS), National Oceanic and Atmospheric Administration (NOAA), Commerce.

ACTION: Final rule; Correcting amendment.

SUMMARY: On December 20, 2019, NMFS published a final rule under the Tuna Conventions Act of 1950 (TCA), as amended, and the Marine Mammal Protection Act (MMPA), as amended, to implement International Maritime Organization (IMO) requirements in Inter-American Tropical Tuna Commission (IATTC) Resolution C-18-06 (Resolution (Amended) on a Regional Vessel Register) and amendments to existing regulations governing inclusion on the IATTC Regional Vessel Register (Vessel Register) by purse seine vessels fishing in the eastern Pacific Ocean (EPO). The December 20th final rule inadvertently contained provisions allowing for the collection of a “business email address” without Office of Management and Budget (OMB) approval under the Paperwork Reduction Act. This amendment is necessary to correct those two revised collection-of-information requirements, because they became effective before approval by OMB.

DATES: Effective February 13, 2020.

ADDRESSES: Copies of supporting documents are available via the Federal eRulemaking Portal: http://www.regulations.gov, docket NOAA-NMFS-2018-0030, or by contacting Daniel Studt, NMFS West Coast Region, 501 W Ocean Blvd., Suite 4200, Long Beach, CA 90802, or emailing WCR.HMS@noaa.gov.

FOR FURTHER INFORMATION CONTACT: Daniel Studt, NMFS, West Coast Region, 562-980-4073.

SUPPLEMENTARY INFORMATION:

Federal Register Correction

On December 20, 2019, NMFS published a final rule in the Federal Register (84 FR 70040) to implement IMO requirements in IATTC Resolution C-18-06 (Resolution (Amended) on a Regional Vessel Register) and amendments to existing regulations governing inclusion on the Vessel Register by purse seine vessels fishing in the EPO. That final rule is effective January 21, 2020 that included new or revised information collections, which are delayed until publication of a document in the Federal Register announcing the effective date.

The final rule amended paragraphs 50 CFR 300.22(b)(4)(ii)(A) and 50 CFR 300.22(b)(4)(iii)(B) to require a “business email address” in the written notification from purse seine vessels with a carrying capacity of 400 short tons or less requesting active or inactive status on the Vessel Register. The provision requiring a “business email address” in 50 CFR 300.22(b)(4)(ii)(A) and 50 CFR 300.22(b)(iii)(B) is a collection-of-information requirement subject that was submitted for review and approval by OMB under the Paperwork Reduction Act (PRA) under control number 0648-0387 upon publication of the December 20 final rule. The business email address requirement found in these paragraphs is not yet approved and the regulatory text is corrected here. Once reviewed and approved by OMB, NMFS will issue another correcting amendment that implements the requirement for a “business email address”.

Classification

This final rule has been determined to be not significant for the purposes of Executive Order 12866. This rule is not an Executive Order 13771 regulatory action because this rule is not significant under Executive Order 12866.

This final rule correction amends two paragraphs that contain existing collection-of-information requirements approved by the Office of Management and Budget (OMB) under the Paperwork Reduction Act (PRA) under control number 0648-0387.

The NOAA Assistant Administrator for Fisheries (AA) finds that the need to immediately implement this regulatory correction constitutes good cause to waive the requirements to provide prior notice and opportunity for public comment pursuant to the authority set forth in 5 U.S.C. 553(b)(B) of the Administrative Procedure Act (APA), because prior notice and opportunity for public comment on this final rule is unnecessary and contrary to the public interest. Such procedures are unnecessary and contrary to the public interest, because the rules implementing revisions and updates to NMFS' Tuna Convention Act regulations have already been subject to notice and comment and not correcting the regulatory text would result in confusion and uncertainty for the affected entities.

For the aforementioned reasons, the AA also finds good cause to waive the 30-day delay in the effectiveness of this action under 5 U.S.C. 553(d)(3).

These measures are thus exempt from the procedures of the Regulatory Flexibility Act because prior notice and comment are not required under the APA.

List of Subjects in 50 CFR Part 300

Fish, Fisheries, Fishing, Fishing vessels, Reporting and recordkeeping requirements.

Dated: January 21, 2020.
Samuel D. Rauch III,
Deputy Assistant Administrator for Regulatory Programs, National Marine Fisheries Service.

For the reasons set out in the preamble, 50 CFR part 300 is corrected by making the following correcting amendments:

PART 300—INTERNATIONAL FISHERIES REGULATIONS

Subpart C—Eastern Pacific Tuna Fisheries

1. The authority citation for part 300, subpart C, continues to read as follows:

Authority: 16 U.S.C. 951 et seq.

2. In § 300.22, revise paragraphs (b)(4)(ii)(A) and (b)(4)(iii)(B) to read as follows:

§ 300.22 Recordkeeping and reporting requirements.

* * * * *

(b) * * *

(4) * * *

(ii) * * *

(A) To request a purse seine vessel of 400 st (362.8 mt) carrying capacity or less be listed on the Vessel Register and be categorized as active, the vessel owner or managing owner must submit to the HMS Branch written notification including, but not limited to, a vessel photograph, the vessel information as described under paragraph (b)(3) of this section, and the owner or managing owner's signature and business telephone and fax numbers. If a purse seine vessel of 400 st (362.8 mt) carrying capacity or less is required by the Agreement on the IDCP to carry an observer, the vessel owner or managing owner must also submit payment of the vessel assessment fee to the IATTC.

* * * * *

(iii) * * *

(B) To request a tuna purse seine vessel of 400 st (362.8 mt) carrying capacity or less be listed on the Vessel Register and categorized as inactive for the following calendar year, the vessel owner or managing owner must submit to the HMS Branch a written notification including, but not limited to, the vessel name and registration number and the vessel owner or managing owner's name, signature, business address, and business telephone and fax numbers. Payment of the vessel assessment fee is not required for vessels of 400 st (362.8 mt) carrying capacity or less to be categorized as inactive.

* * * * *

[FR Doc. 2020-01198 Filed 2-12-20; 8:45 am]

BILLING CODE 3510-22-P